DEPARTMENT OF JUSTICE

Notice of Lodging of Partial Consent Decree Under the Comprehensive Environmental Response, Compensation and Liability Act, 42 U.S.C. 9601 et seq.

Under 28 CFR 50.7, notice is hereby given that on March 2, 2000, a proposed partial consent decree (“consent decree”) in United States v. Excel Corp., Civil Action No. 3:93CV119RM, was lodged with the United States District Court for the Northern District of Indiana.

In this action the United States sought recovery, under Section 107(a) of the Comprehensive Environmental Response, Compensation and Liability Act (“CERCLA”), 42 U.S.C. 9607(a), of response costs incurred in connection with the Main Street Well Field Site in Elkhart, Indiana (“Site”). The proposed consent decree provides for the payment by American Electronic Components, Inc., successor by statutory merger to defendant Durakool, Inc. (“AEC/Durakool”), of $2,700,000 of the United States' unrecovered response costs at the Site, plus interest.

The Department of Justice will receive for a period of thirty (30) days from the date of this publication comments relating to the proposed consent decree. Comments should be addressed to the Assistant Attorney General of the Environmental and Natural Resources Division, Department of Justice, P.O. Box 7611, Washington, DC 20044-7611, and should refer to United States v. Excel Corp., D.J. Ref. No. 90-11-3-799.

The proposed consent decree may be examined at the Office of the United States Attorney, 301 Federal Building, 204 South Main Street, South Bend, Indiana; and at the Region 5 Office of EPA, 77 West Jackson Blvd., Illinois 60604. A copy of the proposed consent decree may be obtained by mail from the Department of Justice Consent Decree Library, P.O. Box 7611, Washington, DC 20044. In requesting a copy, please enclose a check in the amount of $9.00 (25 cents per page reproduction cost) payable to the Consent Decree Library.

Joel M. Gross,
Chief, Environmental Enforcement Section, Environment and Natural Resources Division.

[FR Doc. 00-6536 Filed 3-15-00; 8:45 am]

BILLING CODE 4410-15-M